DEPARTMENT OF HOMELAND SECURITY

Federal Emergency Management Agency

44 CFR Part 62

[Docket ID FEMA-2017-0025]

RIN 1660-AA90

National Flood Insurance Program (NFIP); Revisions to Methodology for Payments To Write Your Own (WYO) Companies; Correction

AGENCY: Federal Emergency Management Agency, DHS.

ACTION: Advance notice of proposed rulemaking; correction.

SUMMARY: This document corrects the preamble to an Advance Notice of Proposed Rulemaking (ANPRM) which FEMA published on July 8, 2019, seeking comment regarding possible approaches to incorporating actual flood insurance expense data into the payment methodology that FEMA uses to determine the amount of payments to WYO companies.

DATES: This correction is effective September 3, 2019. The closing of the comment period for the ANPRM published July 8, 2019, at 84 FR 32371, remains September 6, 2019.

ADDRESSES: For information on submitting comments, see the July 8, 2019, ANPRM at 84 FR 32371.

SUPPLEMENTARY INFORMATION: In ANPRM document 2019-14343 appearing on pages 32371 through 32379 in the issue of Monday, July 8, 2019, make the following corrections:

1. On page 32373, in the second column, in the first paragraph, the phrase “or (3) a combination of previous two methods.” is corrected to read “or (3) a combination of the previous two methods.”.

2. On page 32373, in “Figure 1. Diagram of Current WYO Compensation Methodology”, “H. ULAE, 0.9% Written Premium + 1.5% Incurred Loss (Art. III.C.1)” is corrected to read “G. ULAE, 0.9% Written Premium + 1.5% Incurred Loss (Art. III.C.1)”.

3. On page 32373, in “Figure 1. Diagram of Current WYO Compensation Methodology”, “I. ALAE Fee Schedule (Art. III.C.2)” is corrected to read “H. ALAE Fee Schedule (Art. III.C.2)”.

4. On page 32373, in “Figure 1. Diagram of Current WYO Compensation Methodology”, “J. SALAE, Reimbursement for Actual Costs (Art. III.C.3)” is corrected to read “I. SALAE, Reimbursement for Actual Costs (Art. III.C.3)”.

5. On page 32374, in the second column, in the third full paragraph, the phrase “From 2009 to 2017,” is corrected to read “From 2009 to 2019,”.

6. On page 32374, in the third column, in the last paragraph, the phrase “ULAE (H in Figure 1)” is corrected to read “ULAE (G in Figure 1)”.

7. On page 32375, in the first column, in the first full paragraph, the phrase “ALAE (I in Figure 1)” is corrected to read “ALAE (H in Figure 1)”.

8. On page 32375, in the first column, in the last full paragraph, the sentence “SALAE include specialized claims handling expenses attributable to a specific claim, such as for legal, surveying, or engineering support.” is corrected to read “SALAE (I in Figure 1) include specialized claims handling expenses attributable to a specific claim, such as for legal, surveying, or engineering support.”.

9. On page 32376, in the third column, in the first full paragraph, the phrase “between 2009 and 2013,” is corrected to read “between 2013 and 2017,”.

Pete Gaynor,
Acting Administrator, Federal Emergency Management Agency.

[FR Doc. 2019-18982 Filed 8-30-19; 8:45 am]

BILLING CODE 9111-52-P